DEPARTMENT OF ENERGY

Federal Energy Regulatory Commission

[Docket No. CP05-13-000]

Ingleside Energy Center LNG Project; Notice of Technical Conference

January 21, 2005.

On Tuesday, February 8, 2005, at 8:30 a.m. (CST), staff of the Office of Energy Projects will convene a cryogenic design and technical conference regarding the proposed Ingleside Energy Center LNG import terminal. The cryogenic conference will be held in the Sheraton North Houston at George Bush Intercontinental Airport. The hotel is located at 15700 John F. Kennedy Boulevard, Houston, Texas 77032. For hotel details call 281-442-5100.

In view of the nature of the critical energy infrastructure information and security issues to be explored, the cryogenic conference will not be open to the public. Attendance at this conference will be limited to existing parties to the proceeding (anyone who has specifically requested to intervene as a party) and to representatives of interested federal, state, and local agencies. Any person planning to attend the February 8th cryogenic conference must register by close of business on Friday, February 4th , 2005. Registrations may be submitted either online at http://www.ferc.gov/whats-new/registration/cryo-conf-form.asp or by faxing a copy of the form (found at the referenced online link) to 202-208-0353. All attendees must sign a non-disclosure statement prior to entering the conference. Upon arrival at the hotel, check the reader board in the hotel lobby for venue. For additional information regarding the cryogenic conference, please contact Thach Nguyen at 202-502-6364.

Magalie R. Salas,
Secretary.

[FR Doc. E5-340 Filed 1-28-05; 8:45 am]

BILLING CODE 6717-01-P